DEPARTMENT OF ENERGY

Office of Energy Efficiency and Renewable Energy

Commercial Building Workforce Job/Task Analyses

AGENCY: Office of Energy Efficiency and Renewable Energy, U.S. Department of Energy.

ACTION: Notice of availability; request for comments.

SUMMARY: The U.S. Department of Energy (DOE) Office of Energy Efficiency and Renewable Energy (EERE) announces the availability of a draft set of six Job/Task Analyses applicable to the commercial buildings credentialing sector and the commercial buildings workforce. Through this notice, DOE also requests comments on these documents. Job/Task Analyses were developed for the following six job classifications: Commercial Building Energy Auditor, Commercial Building Energy Modeler, Commissioning/Retro-Commissioning Authority, Energy/Sustainability Manager, Facility Manager, and Operating Engineer/Building Technician. These documents are intended for voluntary use by federal, state, municipal and utility ratepayer-funded energy efficiency programs and private sector commercial building contractors, as well as any other organization, company, or individual involved or concerned with the training of persons in the commercial building space.

DATES: Comments on the six Job/Task Analyses must be received by 5 p.m. Eastern Time on November 28, 2011.

ADDRESSES: Drafts of each of the six Job/Task Analyses are available for review online at: http://www.buildings.energy.gov/workforce.html.

You may submit comments by any of the following methods:

• Internet: http://www.buildings.energy.gov/workforce.html. Follow the instructions for submitting comments.

• E-mail: Buildings.Workforce.Feedback@nrel.gov.

• Federal eRulemaking Portal: http://www.regulations.gov. Search for docket # ID EERE-2011-BT-NOA-0063. Follow the instructions for submitting comments.

• Postal Mail: National Renewable Energy Laboratory, Attn: Buildings Workforce Feedback, Mail Stop: RSF202, 1617 Cole Blvd., Golden, CO 80401-3305.

For further information on how to submit comments, please see the SUPPLEMENTARY INFORMATION section.

FOR FURTHER INFORMATION CONTACT: Sonal Kemkar, Building Technologies Program, Mailstop EE-2J, Office of Energy Efficiency and Renewable Energy, U.S. Department of Energy, 1000 Independence Avenue, SW., Washington, DC 20585. Phone number: (202) 287-1897. E-mail: sonal.kemkar@ee.doe.gov.

For legal issues contact: Kavita K. Vaidyanathan, U.S. Department of Energy, Office of the General Counsel, Forrestal Building, GC-71, 1000 Independence Avenue, SW., Washington, DC 20585. Phone number: (202) 586-0669. E-mail: kavita.vaidyanathan@hq.doe.gov.

SUPPLEMENTARY INFORMATION: EERE has tasked the National Renewable Energy Laboratory (NREL) with developing a suite of six Job/Task Analyses for use by federal, state, municipal and utility ratepayer-funded energy efficiency programs as well as organizations and individuals involved with training and accrediting personnel who operate in the commercial building sector. Job/Task Analyses identify and catalog all of the tasks a given worker typically performs. They include the minimum knowledge, skills, and abilities that a skilled worker should possess to perform work for the given occupation or job level.

The Job/Task Analysis development process involved NREL convening a diverse group of public and private-sector industry practitioners. Each of these practitioners attended a psychometrician-facilitated workshop (psychometrics is the field of study concerned with psychological measurement, including the application of statistical and mathematical techniques to psychological and educational testing) and worked with fellow practitioners to create the Job/Task Analysis specific to their job category. Workshops were held for each of the following job classifications: Commercial Building Energy Auditor, Commercial Building Energy Modeler, Commissioning/Retro-Commissioning Authority, Energy/Sustainability Manager, Facility Manager, and Operating Engineer/Building Technician.

Each of the six Job/Task Analyses contains (1) A description of the job; (2) a proposed content blueprint; (3) tables delineating general and specialized knowledge areas required; (4) tables delineating required skills, abilities, and attributes; (5) tables listing the tools and resources required; and (6) a developing a curriculum (DACUM) chart. The DACUM charts detail the duties, tasks, and steps performed by a practitioner in each occupation, and also include the minimum specialized knowledge, skills and abilities, and tools, equipment, and resources, required to perform each task.

Once finalized, the Job/Task Analyses will:

1. Assist training providers in developing course content and curricula consistent with an industry-recognized suite of Job/Task Analyses.

2. Support increased workforce mobility up career ladders and across career lattices by establishing a clear set of knowledge, skills, and abilities upon which worker credentials should be based.

3. Lay the foundation for more robust private sector training programs.

Issues on Which DOE Seeks Comment

DOE is particularly interested in receiving comments and views of interested parties on the following issues:

• The tasks; minimum knowledge, skills and abilities; and tools, equipment and resources identified in the DACUM charts for each of the six job categories.

DOE is also interested in receiving comments based on the individual experiences of the commenters. To the extent that commenters are providing information on individualized experiences, DOE requests that commenters provide background and context of the experience. DOE requests this information so that DOE better understands the reasoning and context behind each comment. Such a level of understanding will enable DOE to evaluate each submitted comment in a rapid and accurate manner and will also provide valuable information related to the state of the commercial building training and certification industry. DOE requests feedback on the following, as related to the commenter:

• In order for DOE to follow up with commenters should there be questions regarding a comment, DOE requests that commenters identify themselves and provide contact information (name and e-mail address).

• If the commenter is providing information as a representative of an organization, please ensure the organization is clearly identified.

• If there are comments specific to a state or region in which the commenter practices, please identify the state or region.

• If the commenter is providing information as a representative of an organization and there are comments that relate to the size of the organization (e.g., small or large business concerns), please ensure the size of the commenter's organization is clearly identified.

• If the commenter provides sector specific comments please identify the commenter's sector (e.g., public or private).

• In order for DOE to evaluate comments that may be temporally based (i.e., dependent upon when something was learned), please provide the commenter's total years of experience in the commercial buildings industry.

• If comments are provided that pertain to a specific industry field (e.g., commercial building energy auditor, commercial building energy modeler, commissioning/retro-commissioning authority, energy/sustainability manager, facility manager, and/or operating engineer/building technician), please provide (1) the number of years of experience that the commenter has in that and related industries and (2) the commenter's current field of industry and position within that industry.

• To help DOE better understand which comments are applicable across the commercial buildings sector and those that are industry specific, please provide industry credentials and professional society/organization memberships held.

• To help DOE better understand at which point in the commenter's career certain skills are obtained, please identify your highest level of education when responding.

Submission of Comments

DOE will accept comments, data, and information regarding the Job/Task Analyses no later than the date identified in the DATES section above. If submitting comments via internet, please follow all instructions on the web page. Basic information requested upon entering the comment website (name and email) is public record and may be published as part of the report on public comment.

Comments, data, and information submitted to DOE's email address and regular mail for this notice should be provided in WordPerfect, Microsoft Word, PDF, or text (ASCII) file format. Interested parties should avoid the use of special characters or any form of encryption, and wherever possible, comments should include the electronic signature of the author. Comments, data, and information submitted to DOE via e-mail or regular mail should include one signed paper original.

If you submit information that you believe to be exempt by law from public disclosure, you should submit one complete copy, as well as one copy from which the information claimed to be exempt by law from public disclosure has been deleted. DOE is responsible for the final determination with regard to disclosure or nondisclosure of the information and for treating it accordingly under the DOE Freedom of Information regulations at 10 CFR 1004.11.

Issued in Washington, DC, on October 5, 2011.
Kathleen B. Hogan,
Deputy Assistant Secretary for Energy Efficiency, Office of Technology Development, Energy Efficiency and Renewable Energy.

[FR Doc. 2011-26645 Filed 10-13-11; 8:45 am]

BILLING CODE 6450-01-P